DEPARTMENT OF TRANSPORTATION

Federal Aviation Administration

Notice of Meeting

AGENCY: Federal Aviation Administration (FAA) DOT.

ACTION: Notice.

SUMMARY: This notice announces a meeting of the FAA Aircraft Repair and Maintenance Advisory Committee. The purpose of the meeting is to continue the Committee's work on its goals and objectives pursuant to its congressional mandate.

DATES: The meeting will be held July 17, 2001, 9 a.m. to 4 p.m.

ADDRESSES: The meeting will be held at the Federal Aviation Administration, 800 Independence Ave., SW., Bessie Coleman Conference Center, Washington, DC 20591.

FOR FURTHER INFORMATION CONTACT: Ellen Bowie, Federal Aviation Administration (AFS-340), 800 Independence Avenue, SW., Washington, DC 20591; phone (202) 267-9952; fax (202) 267-5115; e-mail: Ellen.Bowie@faa.gov.

SUPPLEMENTARY INFORMATION: Pursuant to section 10(a)(2) of the Federal Advisory Committee Act (Pub. L. 92-463; 5 U.S.C. App. II), notice is hereby given of a meeting of the FAA Aircraft Repair and Maintenance Advisory Committee to be held on July 17, at the Federal Aviation Administration, 800 Independence Avenue, SW., Bessie Coleman Conference Center, Washington, DC 20591.

The agenda will include:

• Introduction of new Designated Federal Official

• Reading and Approval of the Previous Meeting Minutes

• Designated alternate members identified for all Committee members

• FAA briefing on earlier data collection process

• Status reports by ad hoc groups

—Balance of Trade—Sarah MacLeod

—Oversight/safety—Nelson DeWees

—International agreements—FAA Representative, Leo Weston

• Report on other action items

• Committee budget request—James Ballough

• Committee Extension—James Ballough/Thomas Gonzalez

• Clarification of AIR-21 language regarding “staffing” and data collection—James Ballough/Russell Unangst

—Data collection by DOT (AIR-21 sec. 734(d)

—Staffing definition (AIR-21) sec. 734(c)(2)

• Definition of the Committee workscope vs. mandate

• Statements by members of the public

• Plan/formalize future Committee and working group activities

• Timeline/events discussion

• Next steps

• Closing Remarks and Adjournment

Attendance is open to the public but will be limited to the availability of meeting room space. Persons desiring to present a verbal statement must provide a written summary of remarks. Please focus your remarks on the tasks, specific activities, projects or goals of the Advisory Committee, and benefits to the aviation public. Speakers will be limited to 5-minute presentations. Please contact Ms. Ellen Bowie at the number listed above if you plan to attend the meeting or to present a verbal statement.

Individuals making verbal presentations at the meeting should bring 25 copies to give to the Committee's Executive Director. Copies may be provided to the audience at the discretion of the submitter.

Issued in Washington, DC on July 2, 2001.
James J. Ballough,
Executive Director, Aircraft Repair and Maintenance Advisory Committee.

[FR Doc. 01-17078 Filed 7-6-01; 8:45 am]

BILLING CODE 4910-13-M